DEPARTMENT OF VETERANS AFFAIRS

Privacy Act of 1974; System of Records

AGENCY: Office of Small and Disadvantaged Business Utilization (OSDBU), Department of Veterans Affairs (VA).

ACTION: Rescindment of a system of records.

SUMMARY: VA VetBiz Assistance Program Pages (132VAOSDBU) has been combined with the Center for Verification and Evaluation (CVE) VA VetBiz Vendor Information Pages (VIP) (181VAOSDBU). 132VAOSDBU is a system that is accessed by VA Procurement Decision Makers (PDMs) which allows the PDM to perform research upon Veteran Owned Small Businesses (VOSBs) and Service-Disabled Veteran Owned Small Businesses (SDVOSBs). This service allows the VA to meet the requirements for contract set-aside for businesses that meet specific qualifications. The system has been combined with the system covered by CVE VA VetBiz VIP (181VAOSDBU), the system used by Veterans to submit information to become certified as VOSBs or SDVOSBs. Certified VOSBs/SDVOSBs are maintained in the Customer Relationship Management (CRM) database. The records from 132VAOSDBU are combined with and stored in 181VAOSDBU.

DATES: The agency has combined the two systems of record on February 28, 2021. Comments on this rescindment notice must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to VA VetBiz Assistance Program Pages (132VAOSDBU). Comments received will be available at regulations.gov for public viewing, inspection or copies.

FOR FURTHER INFORMATION CONTACT: Renetta Bradford, Information Technology Systems Integration (ITSI) Senior Program Manager, Department of Veterans Affairs (VA), Office of Small & Disadvantaged Business Utilization (OSDBU), 810 Vermont Ave. NW, Room 1064, Washington, DC 20420. Email: osdbuexeccorr@va.gov or (202) 461-4600.

SUPPLEMENTARY INFORMATION: 132VAOSDBU has been combined with 181VAOSDBU. The records from 132VAOSDBU have been combined with 181VAOSDBU for users of the system. Records will be maintained according to VA security and NARA requirements.

Signing Authority

The Senior Agency Official for Privacy, or designee, approved this document and authorized the undersigned to sign and submit the document to the Office of the Federal Register for publication electronically as an official document of the Department of Veterans Affairs. Neil C. Evans, M.D., Chief Officer, Connected Care, Performing the Delegable Duties of the Assistant Secretary for Information and Technology and Chief Information Officer, approved this document on November 28, 2021 for publication.

Dated: January 4, 2022.
Amy L. Rose,
Program Analyst, VA Privacy Service, Office of Information Security, Office of Information and Technology, Department of Veterans Affairs.

SYSTEM NAME AND NUMBER:

VA VetBiz Assistance Program Pages (132VAOSDBU)

HISTORY:

VA VetBiz Assistance Program Pages—VA (132VAOSDBU), published as 86 FR 7923, 02/02/2021, was the last full publication of OSDBU's SORN 132VAOSDBU which provided updated information regarding OSDBU's records.

[FR Doc. 2022-00083 Filed 1-6-22; 8:45 am]

BILLING CODE 8320-01-P